DEPARTMENT OF LABOR

Employment and Training Administration

Proposed Information Collection Request of the ETA-9016 (OMB Control No. 1205-0268) on Alien Claims Activity Report; Comment Request on Extension Without Change

AGENCY: Employment and Training Administration (ETA), Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm. This collection authority expires on July 31, 2011.

DATES: Written comments must be submitted to the office listed in the addressee's section below on or before May 9, 2011.

ADDRESSES: Send comments to Nancy Dean, U.S. Department of Labor, Employment and Training Administration, Office of Workforce Security, 200 Constitution Avenue, NW., Frances Perkins Bldg., Room S-4231, Washington, DC 20210, telephone number (202) 693-3215 (this is not a toll-free number) or by e-mail: dean.nancy@dol.gov.

SUPPLEMENTARY INFORMATION:

I. Background

The ETA-9016 Report is used by the Department of Labor to assess whether (and the extent to which) the requirements of the U.S. Citizenship and Immigration Services (USCIS), Systematic Alien Verification for Entitlement (SAVE) system are cost-effective and otherwise appropriate for the Unemployment Insurance (UI) program. In addition, data from the Alien Claims Activity report is being used to assist the Secretary of Labor in determining whether a State Workforce Agency's (SWA) administrative costs associated with the verification program are reasonable and reimbursable. There is no other report or system available for collecting this required information. The report allows the Department of Labor to determine the number of aliens filing for UI, the number of benefit issues detected, the denials of benefits to aliens, the extent to which State Agencies use the system, and the overall effectiveness and cost efficiency of the verification system. If SWAs are not required to submit the information on the Alien Claims Activity Report, the Department of Labor would not be able to fulfill its responsibilities to assess the SAVE system.

II. Desired Focus of Comments

Currently, ETA is soliciting comments concerning the proposed extension of the collection for the ETA 9016 Report on Alien Claims Activity, and is particularly interested in comments which:

* Enhance the quality, utility, and clarity of the information to be collected; and

* Minimize the burden of the collection of information on those who are to respond, including through the use of electronic collection techniques.

III. Current Actions

Continued collection of the ETA-9016 data will provide for a comprehensive evaluation of the UI Alien Claims Activities. The data are collected quarterly, and an analysis of the data received is formulated into a report summarizing the Alien Claims Activity by the 53 SWAs.

Type of Review: Extension without change.

Title: ETA 9016, Alien Claims Activity Report.

OMB Number: 1205-0268.

Affected Public: 53 State Workforce Agencies.

Form(s): ETA 9016.

Total Annual Respondents: 53.

Annual Frequency: Quarterly.

Total Annual Responses: 212 responses.

Average Time per Response: 1 hour.

Estimated Total Annual Burden Hours: 212 hours.

Total Annual Burden Cost for Respondents: $0.

Comments submitted in response to this comment request will be summarized and/or included in the request for Office of Management and Budget approval of the information collection request; they will also become a matter of public record.

Dated: March 1, 2011.
Jane Oates,
Assistant Secretary, Employment and Training Administration.

[FR Doc. 2011-5238 Filed 3-7-11; 8:45 am]

BILLING CODE 4510-FT-P